MERIT SYSTEMS PROTECTION BOARD

5 CFR Part 1201

Closure of Two MSPB Offices

AGENCY: Merit Systems Protection Board.

ACTION: Final rule.

SUMMARY: The Merit Systems Protection Board (MSPB or Board) is amending its rules of practice and procedure in this part to reflect the planned closure of its Boston Field Office and Seattle Field Office.

Effective March 17, 2004, no new appeals may be filed in the Boston Field Office and Seattle Field Office. On March 17, 2004, areas currently served by the Boston Field Office will be transferred to the Northeastern Regional Office (Philadelphia, Pennsylvania) and areas served by the Seattle Field Office will be transferred to the Western Regional Office (San Francisco, California).

Cases filed in the Boston Field Office and Seattle Field Office prior to March 17, 2004, will remain docketed in those offices and parties should continue filing pleadings with those offices until a notice transferring the case is issued. The Board anticipates closing the Boston Field Office and Seattle Field Office on March 31, 2004.

Accordingly, Appendix II of this part is amended to delete the Boston and Seattle Field Offices effective March 17, 2004. This amendment reassigns the areas served by the Boston Field Office to the Northeastern Regional Office and reassigns the areas served by the Seattle Field Office to the Western Regional Office. Appendix III of this part is amended effective March 17, 2004, to delete the approved hearing locations currently listed under the Boston and Seattle Field Offices and transfer those approved hearing locations to the Northeastern Regional Office and the Western Regional Office, respectively.

In addition, the Board has included an amendment to the zip code listed for the Denver Field Office in Appendix II and several amendments to the list of approved hearing sites in Appendix III.

DATES: Effective March 17, 2004.

FOR FURTHER INFORMATION CONTACT: Timothy L. Korb, Manager, Information Services, Merit Systems Protection Board, 1615 M Street, NW, Washington, DC, 20419; (202) 653-7200; fax: (202) 653-7130; or e-mail: mspb@mspb.gov.

The Board is publishing this rule as a final rule pursuant to 5 U.S.C. 1204(h).

List of Subjects in 5 CFR Part 1201

Administrative practice and procedure, Civil rights, Government employees.

Accordingly, the Board amends 5 CFR part 1201 as follows:

1. The authority citation for part 1201 continues to read as follows:

Authority: 5 U.S.C. 1204 and 7701, unless otherwise noted.

2. Appendix II to Part 1201 is revised to read as follows:

Appendix II to Part 1201—Appropriate Regional or Field Office for Filing Appeals

All submissions shall be addressed to the Regional Director, if submitted to a regional office, or the Chief Administrative Judge, if submitted to a field office, Merit Systems Protection Board, at the addresses listed below, according to geographic region of the employing agency or as required by § 1201.4(d) of this part. The facsimile numbers listed below are TDD-capable; however, calls will be answered by voice before being connected to the TDD. Address of Appropriate Regional or Field Office and Area Served:

1. Atlanta Regional Office, 401 West Peachtree Street, NW., 10th floor, Atlanta, Georgia 30308-3519, Facsimile No.: (404) 730-2767, (Alabama; Florida; Georgia; Mississippi; South Carolina; and Tennessee).

2. Central Regional Office, 230 South Dearborn Street, 31st floor, Chicago, Illinois 60604-1669, Facsimile No.: (312) 886-4231, (Illinois; Indiana; Iowa; Kansas City, Kansas; Kentucky; Michigan; Minnesota; Missouri; Ohio; and Wisconsin).

2a. Dallas Field Office, 1100 Commerce Street, Room 620, Dallas, Texas 75242-9979, Facsimile No.: (214) 767-0102, (Arkansas; Louisiana; Oklahoma; and Texas).

3. Northeastern Regional Office, U.S. Customhouse, Room 501, Second and Chestnut Streets, Philadelphia, Pennsylvania 19106-2987, Facsimile No.: (215) 597-3456, (Connecticut; Delaware; Maine; Maryland—except the counties of Montgomery and Prince George's; Massachusetts; New Hampshire; New Jersey—except the counties of Bergen, Essex, Hudson, and Union; Pennsylvania; Rhode Island; Vermont; and West Virginia).

3a. New York Field Office, 26 Federal Plaza, Room 3137-A, New York, New York 10278-0022, Facsimile No.: (212) 264-1417, (New Jersey—counties of Bergen, Essex, Hudson, and Union; New York; Puerto Rico; and Virgin Islands).

4. Washington Regional Office, 1800 Diagonal Road, Alexandria, Virginia 22314, Facsimile No.: (703) 756-7112, (Maryland—counties of Montgomery and Prince George's; North Carolina; Virginia; Washington, DC; and all overseas areas not otherwise covered).

5. Western Regional Office, 250 Montgomery Street, Suite 400, 4th floor, San Francisco, California 94104-3401, Facsimile No.: (415) 705-2945, (Alaska; California; Hawaii; Idaho; Nevada; Oregon; Washington; and Pacific overseas areas).

5a. Denver Field Office, 165 South Union Blvd., Suite 318, Lakewood, Colorado 80228-2211, Facsimile No.: (303) 969-5109, (Arizona; Colorado; Kansas—except Kansas City; Montana; Nebraska; New Mexico; North Dakota; South Dakota; Utah; and Wyoming).

3. Appendix III to Part 1201 is revised to read as follows:

Appendix III to Part 1201—Approved Hearing Locations By Regional Office

Atlanta Regional Office

Birmingham, Alabama

Huntsville, Alabama

Mobile, Alabama

Montgomery, Alabama

Jacksonville, Florida

Miami, Florida

Orlando, Florida

Pensacola, Florida

Tallahassee, Florida

Tampa/St. Petersburg, Florida

Atlanta, Georgia

Augusta, Georgia

Macon, Georgia

Savannah, Georgia

Jackson, Mississippi

Charleston, South Carolina

Columbia, South Carolina

Chattanooga, Tennessee

Knoxville, Tennessee

Memphis, Tennessee

Nashville, Tennessee

Central Regional Office

Chicago, Illinois

Indianapolis, Indiana

Davenport, Iowa/Rock Island, Illinois

Des Moines, Iowa

Lexington, Kentucky

Louisville, Kentucky

Detroit, Michigan

Minneapolis/St. Paul, Minnesota

Kansas City, Missouri

Springfield, Missouri

St. Louis, Missouri

Cleveland, Ohio

Cincinnati, Ohio

Columbus, Ohio

Dayton, Ohio

Milwaukee, Wisconsin

Dallas Field Office

Little Rock, Arkansas

Alexandria, Louisiana

New Orleans, Louisiana

Oklahoma City, Oklahoma

Tulsa, Oklahoma

Corpus Christi, Texas

Dallas, Texas

El Paso, Texas

Houston, Texas

San Antonio, Texas

Temple, Texas

Texarkana, Texas

Northeastern Regional Office

Hartford, Connecticut

New Haven, Connecticut

Dover, Delaware

Bangor, Maine

Portland, Maine

Baltimore, Maryland

Boston, Massachusetts

Manchester, New Hampshire

Portsmouth, New Hampshire

Trenton, New Jersey

Harrisburg, Pennsylvania

Philadelphia, Pennsylvania

Pittsburgh, Pennsylvania

Wilkes-Barre, Pennsylvania

Providence, Rhode Island

Burlington, Vermont

Charleston, West Virginia

Morgantown, West Virginia

New York Field Office

Newark, New Jersey

Albany, New York

Buffalo, New York

New York, New York

Syracuse, New York

San Juan, Puerto Rico

Washington Regional Office

Washington, DC

Asheville, North Carolina

Charlotte, North Carolina

Raleigh, North Carolina

Jacksonville, North Carolina

Alexandria, Virginia

Norfolk, Virginia

Richmond, Virginia

Roanoke, Virginia

Western Regional Office

Anchorage, Alaska

Fresno, California

Los Angeles, California

Monterey, California

Sacramento, California

San Bernardino, California

San Diego, California

San Francisco, California

Santa Ana, California

Santa Barbara, California

Honolulu, Hawaii

Boise, Idaho

Pocatello, Idaho

Las Vegas, Nevada

Reno, Nevada

Medford, Oregon

Portland, Oregon

Seattle, Washington

Spokane, Washington

Richland, Kennewick, and Pasco, Washington

Denver Field Office

Phoenix, Arizona

Tucson, Arizona

Grand Junction, Colorado

Lakewood, Colorado

Pueblo, Colorado

Wichita, Kansas

Billings, Montana

Great Falls, Montana

Missoula, Montana

Omaha, Nebraska

Albuquerque, New Mexico

Bismarck, North Dakota

Fargo, North Dakota

Rapid City, South Dakota

Sioux Falls, South Dakota

Salt Lake City, Utah

Casper, Wyoming

Dated: March 5, 2004.
Bentley M. Roberts, Jr.,
Clerk of the Board.

[FR Doc. 04-5417 Filed 3-10-04; 8:45 am]

BILLING CODE 7400-01-P